DEPARTMENT OF JUSTICE

Notice of Lodging of Proposed Amendment to a Consent Decree Under the Comprehensive Environmental Response, Compensation, and Liability Act

On January 9, 2018, the Department of Justice lodged a proposed amendment to the 2003 consent decree with the United States District Court for the Eastern District of New York in the lawsuit entitled United States, et al. v. Mattiace Industries, Inc., et al., Civil Action No. 03-1011.

In that action, the United States sought, pursuant to the Comprehensive Environmental Response, Compensation, and Liability Act (“CERCLA”), 42 U.S.C. 9601, et seq., injunctive relief and recovery of response costs regarding the Mattiace Petrochemical Superfund Site in the City of Glen Cove, Nassau County, New York (the “Site”). The matter was originally resolved in 2003 when the United States entered into a Consent Decree with 27 potentially responsible parties regarding the Site (the “2003 Consent Decree”). These parties were joined by a 28th party, TRC Companies, Inc. (“TRC”), which, though not a liable party, agreed to be bound by the 2003 Consent Decree and to perform the remedy. The 2003 Consent Decree required, among other things, that the settlors implement portions of the remedial action selected by the U.S. Environmental Protection Agency (“EPA”) in a 1991 record of decision (“1991 ROD”) for the Site.

On September 29, 2014, EPA issued an amendment to the 1991 ROD, which, among other things, documented EPA's decision regarding a modification to the remedy to be implemented at the Site and identification of a new remedy to address remaining contaminated groundwater and soil gas at the Site. The proposed amendment to the 2003 Consent Decree, which was lodged with the Court on January 9, 2018, modifies the 2003 Consent Decree to make it consistent with the amended ROD. Specifically, it will substitute the amended ROD for the 2003 ROD; will substitute a new statement of work for the original statement of work; and will include updates to the Site history, definitions and internal references. TRC will continue to perform the work, as a signatory with the settling defendants.

The publication of this notice opens a period for public comment on the proposed Amendment to the 2003 Consent Decree. Comments should be addressed to the Assistant Attorney General, Environment and Natural Resources Division, and should refer to United States, et al. v. Mattiace Industries, Inc., et al., Civil Action No. 03-1011, D.J. Ref. No. 90-11-3-07234. All comments must be submitted no later than 30 days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed amended consent decree may be examined and downloaded at this Justice Department website: https://www.justice.gov/enrd/consent-decrees. We will provide a paper copy of the proposed amended consent decree upon written request and payment of reproduction costs. Please mail your request and payment to: Consent Decree Library, U.S. DOJ—ENRD, P.O. Box 7611, Washington, DC 20044-7611.

Please enclose a check or money order for $9.50 (25 cents per page reproduction cost) payable to the United States Treasury.

Jeffrey Sands,
Assistant Section Chief, Environmental Enforcement Section, Environment and Natural Resources Division.

[FR Doc. 2018-01326 Filed 1-24-18; 8:45 am]

BILLING CODE 4410-15-P